DEPARTMENT OF ENERGY

Federal Energy Regulatory Commission

Combined Notice of Filings #2

Take notice that the Commission received the following electric rate filings:

Docket Numbers: ER10-1246-010; ER10-1253-010; ER14-1927-002; ER14-1776-004; ER14-1548-003; ER13-764-011; ER12-2499-011; ER12-2498-011; ER12-1566-005; ER11-3987-006; ER10-1982-011; ER10-1252-010; ER10-1253-010.

Applicants: Consolidated Edison Energy, Inc., Consolidated Edison Company of New York, Inc., Orange and Rockland Utilities, Inc., Consolidated Edison Solutions, Inc., CED White River Solar, LLC, CED White River Solar 2, LLC, Alpaugh 50, LLC, Alpaugh North, LLC, Broken Bow Wind II, LLC, Copper Mountain Solar 2, LLC, Copper Mountain Solar 3, LLC, Mesquite Solar 1, LLC.

Description: Notice of change status of the Consolidated Edison, Inc. subsidiaries.

Filed Date: 1/29/15.

Accession Number: 20150129-5337.

Comments Due: 5 p.m. ET 2/19/15.

Docket Numbers: ER12-2701-003.

Applicants: Pacific Gas and Electric Company.

Description: eTariff filing per 35.19a(b): Transmission Owner and ETC Rate Case (TO14-ETC) Refund Report to be effective N/A.

Filed Date: 1/30/15.

Accession Number: 20150130-5237.

Comments Due: 5 p.m. ET 2/20/15.

Docket Numbers: ER15-933-000.

Applicants: Midcontinent Independent System Operator, Inc.

Description: Section 205(d) rate filing per 35.13(a)(2)(iii): 2015-01-30_Schedule 31 Annual Update to be effective 4/1/2015.

Filed Date: 1/30/15.

Accession Number: 20150130-5123.

Comments Due: 5 p.m. ET 2/20/15.

Docket Numbers: ER15-934-000.

Applicants: Arizona Public Service Company.

Description: Section 205(d) rate filing per 35.13(a)(2)(iii): Rate Schedule No. 217 Exhibit B.EGL Revision No. 4 to be effective 4/1/2015.

Filed Date: 1/30/15.

Accession Number: 20150130-5156.

Comments Due: 5 p.m. ET 2/20/15.

Docket Numbers: ER15-935-000.

Applicants: Pacific Gas and Electric Company.

Description: Section 205(d) rate filing per 35.13(a)(2)(iii): CCSF IA—48th Quarterly Filing of Facilities Agreements to be effective 12/31/2014.

Filed Date: 1/30/15.

Accession Number: 20150130-5157.

Comments Due: 5 p.m. ET 2/20/15.

Docket Numbers: ER15-936-000.

Applicants: Benson Power, LLC.

Description: Initial rate filing per 35.12 MBR Tariff to be effective 3/3/2015.

Filed Date: 1/30/15.

Accession Number: 20150130-5158.

Comments Due: 5 p.m. ET 2/20/15.

Docket Numbers: ER15-937-000.

Applicants: New England Power Pool Participants Committee.

Description: Section 205(d) rate filing per 35.13(a)(2)(iii): February 2015 Membership Filing to be effective 1/1/201.

Filed Date: 1/30/15.

Accession Number: 20150130-5170.

Comments Due: 5 p.m. ET 2/20/15.

Docket Numbers: ER15-938-000.

Applicants: Southwest Power Pool, Inc.

Description: Section 205(d) rate filing per 35.13(a)(2)(iii): 2956 American Electric Power NITSA and NOA to be effective 1/1/2015 under ER15-938 Filing Type: 10.

Filed Date: 1/30/15.

Accession Number: 20150130-5232.

Comments Due: 5 p.m. ET 2/20/15.

Docket Numbers: ER15-939-000.

Applicants: Western Massachusetts Electric Company.

Description: Section 205(d) rate filing per 35.13(a)(2)(iii): Amendment 2 HG&E Asset Demarcation Agreement to be effective 1/5/2015 under ER15-939 Filing Type: 10.

Filed Date: 1/30/15.

Accession Number: 20150130-5233.

Comments Due: 5 p.m. ET 2/20/15.

Docket Numbers: ER15-940-000.

Applicants: Southwest Power Pool, Inc.

Description: Section 205(d) rate filing per 35.13(a)(2)(iii): 1065R3 Tex-La Electric Cooperative of Texas NITSA and NOA to be effective 1/1/2015 under ER15-940 Filing Type: 10.

Filed Date: 1/30/15.

Accession Number: 20150130-5245.

Comments Due: 5 p.m. ET 2/20/15.

Docket Numbers: ER15-941-000.

Applicants: PJM Interconnection, L.L.C., Virginia Electric and Power Company.

Description: Section 205(d) rate filing per 35.13(a)(2)(iii): Virginia Electric and Power Co. submits Service Agreement No. 4084—WDSA to be effective 12/31/2014.

Filed Date: 1/30/15.

Accession Number: 20150130-5256.

Comments Due: 5 p.m. ET 2/20/15.

Docket Numbers: ER15-942-000.

Applicants: Southwest Power Pool, Inc.

Description: Section 205(d) rate filing per 35.13(a)(2)(iii): 1066R6 Northeast Texas Electric Cooperative NITSA and NOA to be effective 1/1/2015.

Filed Date: 1/30/15.

Accession Number: 20150130-5258.

Comments Due: 5 p.m. ET 2/20/15.

Docket Numbers: ER15-943-000.

Applicants: Midcontinent Independent System Operator, Inc.

Description: Section 205(d) rate filing per 35.13(a)(2)(iii): 2015-01-30_SA 6502 Illinois Power-Edwards SSR 2015 Renewal to be effective 1/1/2015.

Filed Date: 1/30/15.

Accession Number: 20150130-5259.

Comments Due: 5 p.m. ET 2/20/15.

Docket Numbers: ER15-944-000.

Applicants: Southwest Power Pool, Inc.

Description: Section 205(d) rate filing per 35.13(a)(2)(iii): 1067R3 East Texas Electric Cooperative NITSA and NOA to be effective 1/1/2015.

Filed Date: 1/30/15.

Accession Number: 20150130-5263.

Comments Due: 5 p.m. ET 2/20/15.

Docket Numbers: ER15-945-000.

Applicants: Midcontinent Independent System Operator, Inc., Stuntz, Davis & Staffier, P.C.

Description: Section 205(d) rate filing per 35.13(a)(2)(iii): 2015-01-30_ITC Midwest Adder Filing to be effective 4/1/2015.

Filed Date: 1/30/15.

Accession Number: 20150130-5273.

Comments Due: 5 p.m. ET 2/20/15.

Docket Numbers: ER15-946-000.

Applicants: Midcontinent Independent System Operator, Inc.

Description: Section 205(d) rate filing per 35.13(a)(2)(iii): 2015-01-30_Schedule 43C Edwards SSR Renewal to be effective 1/1/2015.

Filed Date: 1/30/15.

Accession Number: 20150130-5274.

Comments Due: 5 p.m. ET 2/20/15.

Take notice that the Commission received the following land acquisition reports:

Docket Numbers: LA14-4-000.

Applicants: Alabama Power Company, Georgia Power Company, Gulf Power Company, Mississippi Power Company and Southern Power Company.

Description: Quarterly Land Acquisition Report of Southern Companies.

Filed Date: 1/30/15.

Accession Number: 20150130-5192.

Comments Due: 5 p.m. ET 2/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2015.
Nathaniel J. Davis, Sr.,
Deputy Secretary.

[FR Doc. 2015-02631 Filed 2-9-15; 8:45 am]

BILLING CODE 6717-01-P